DEPARTMENT OF COMMERCE

Foreign-Trade Zones Board

[Docket 33-2004]

Foreign-Trade Zone 25—Port Everglades, FL; Application for Expansion

An application has been submitted to the Foreign-Trade Zones (FTZ) Board (the Board) by the Broward County Department of Port Everglades, grantee of FTZ 25, requesting authority to expand FTZ 25 in Broward County, Florida. The application was submitted pursuant to the provisions of the Foreign-Trade Zones Act, as amended, (19 U.S.C. 81a-81u), and the regulations of the Board (15 CFR part 400). It was formally filed on August 9, 2004.

FTZ 25 was approved on December 27, 1976 (Board Order 113, 42 FR 61, 1/3/77), and expanded on August 11, 1978 (Board Order 132, 43 FR 36989, 8/21/78), and October 10, 1991 (Board Order 537, 56 FR 52510, 10/21/91).

The applicant is now requesting authority to expand and reorganize the zone and make permanent several temporary parcels. The zone, as proposed, would consist of the following sites, totaling 250 acres, in Broward County, Florida:

Site 1A: (82 acres) 3400 McIntosh Road within the Port of Port Everglades;

Site 1B: (10 acres) 4401 McIntosh Road within the Port of Port Everglades;

Site 1C: (50 acres) 3401 McIntosh Road within the Port Everglades Commerce Center;

Site 2: (12 acres) Westport Business Park, 2525 Davie Road, Davie;

Site 3: (39 acres) Miramar Park of Commerce, 10044 Premier Parkway, Miramar;

Site 4A: (18 acres) Lauderdale Lakes Industrial Park, 2696 NW 31st Ave., City of Lauderdale Lakes;

Site 4B: (13 acres) Lincoln Park, located at 3435-3699 NW 19th Street, City of Lauderdale Lakes; and

Site 4C: (26 acres) Florida Studios, 3200 West Oakland Park Boulevard, City of Lauderdale Lakes.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230. The closing period for their receipt is October 18, 2004. Rebuttal comments in response to material submitted during the foregoing period may be submitted during the subsequent 15-day period (to November 1, 2004).

A copy of the application and accompanying exhibits will be available for public inspection at the Office of the Foreign-Trade Zones Board's Executive Secretary at the first address listed above, and at the U.S. Department of Commerce Export Assistance Center, 200 E. Las Olas Blvd., Suite 1600, Fort Lauderdale, FL 33301-2284.

Dated: August 9, 2004.
Dennis Puccinelli,
Executive Secretary.

[FR Doc. 04-18811 Filed 8-16-04; 8:45 am]

BILLING CODE 3510-DS-P